DEPARTMENT OF THE INTERIOR

National Park Service

Notice of Inventory Completion: Oregon State University Department of Anthropology, Corvallis, OR

AGENCY: National Park Service, Interior.

ACTION: Notice.

Notice is here given in accordance with the Native American Graves Protection and Repatriation Act (NAGPRA), 25 U.S.C. 3003, of the completion of an inventory of human remains in the control of Oregon State University Department of Anthropology, Corvallis, OR. The human remains were removed from an unknown location in Kodiak Island, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Oregon State University Department of Anthropology professional staff in consultation with representatives of the Kodiak Alutiiq Sugpiaq Repatriation Commission acting on behalf of the Afognak Native Corporation; Akhiok-Kaguyak, Inc.; Ayakuklik, Inc.; Bell Flats Natives, Inc.; Kaguyak Village; Koniag, Inc.; Leisnoi, Inc.; Lesnoi Village (aka Woody Island); Litnik, Inc.; Native Village of Afognak; Native Village of Akhiok; Native Village of Karluk; Native Village of Larsen Bay; Native Village of Ouzinkie; Native Village of Port Lions; Natives of Kodiak, Inc.; Old Harbor Native Corporation; Ouzinkie Native Corporation; Shuyak, Inc.; Sun'aq Tribe of Kodiak; Uganik Natives, Inc.; Uyak, Inc.; and Village of Old Harbor.

On an unknown date, human remains representing a minimum of two individuals were removed from an unknown location in Kodiak Island, AK. No additional information about previous donors or records is known. No known individuals were identified. No associated funerary objects are present.

Consultation with the Kodiak Alutiiq Sugpiaq Repatriation Commission and collection records indicate that the human remains are from Kodiak Island, AK, and are culturally affiliated with the Native Alaskan tribes who traditionally occupy Kodiak Island. Descendants of the tribes who traditionally occupy Kodiak Island are members of the Afognak Native Corporation; Akhiok-Kaguyak, Inc.; Ayakuklik, Inc.; Bell Flats Natives, Inc.; Kaguyak Village; Koniag, Inc.; Leisnoi, Inc.; Lesnoi Village (aka Woody Island); Litnik, Inc.; Native Village of Afognak; Native Village of Akhiok; Native Village of Karluk; Native Village of Larsen Bay; Native Village of Ouzinkie; Native Village of Port Lions; Natives of Kodiak, Inc.; Old Harbor Native Corporation; Ouzinkie Native Corporation; Shuyak, Inc.; Sun'aq Tribe of Kodiak; Uganik Natives, Inc.; Uyak, Inc.; and Village of Old Harbor.

Officials of the Oregon State University Department of Anthropology have determined that, pursuant to 25 U.S.C. 3001(9-10), the human remains described above represent the physical remains of two individuals of Native American ancestry. Officials of the Oregon State University Department of Anthropology have also determined that, pursuant to 25 U.S.C. 3001(2), there is a relationship of shared group identity that can be reasonably traced between the Native American human remains and the Afognak Native Corporation; Akhiok-Kaguyak, Inc.; Ayakuklik, Inc.; Bell Flats Natives, Inc.; Kaguyak Village; Koniag, Inc.; Leisnoi, Inc.; Lesnoi Village (aka Woody Island); Litnik, Inc.; Native Village of Afognak; Native Village of Akhiok; Native Village of Karluk; Native Village of Larsen Bay; Native Village of Ouzinkie; Native Village of Port Lions; Natives of Kodiak, Inc.; Old Harbor Native Corporation; Ouzinkie Native Corporation; Shuyak, Inc.; Sun'aq Tribe of Kodiak; Uganik Natives, Inc.; Uyak, Inc.; and Village of Old Harbor.

Representatives of any other Indian tribe that believes itself to be culturally affiliated with the human remains should contact Dr. David McMurray, Oregon State University Department of Anthropology, 238 Waldo Hall, Corvallis, OR 97331, telephone (541) 737-4515, before May 19, 2008. Repatriation of the human remains to the Afognak Native Corporation; Akhiok-Kaguyak, Inc.; Ayakuklik, Inc.; Bell Flats Natives, Inc.; Kaguyak Village; Koniag, Inc.; Leisnoi, Inc.; Lesnoi Village (aka Woody Island); Litnik, Inc.; Native Village of Afognak; Native Village of Akhiok; Native Village of Karluk; Native Village of Larsen Bay; Native Village of Ouzinkie; Native Village of Port Lions; Natives of Kodiak, Inc.; Old Harbor Native Corporation; Ouzinkie Native Corporation; Shuyak, Inc.; Sun'aq Tribe of Kodiak; Uganik Natives, Inc.; Uyak, Inc.; and Village of Old Harbor may proceed after that date if no additional claimants come forward.

Oregon State University Department of Anthropology is responsible for notifying the Afognak Native Corporation; Akhiok-Kaguyak, Inc.; Ayakuklik, Inc.; Bell Flats Natives, Inc.; Kaguyak Village; Koniag, Inc.; Leisnoi, Inc.; Lesnoi Village (aka Woody Island); Litnik, Inc.; Native Village of Afognak; Native Village of Akhiok; Native Village of Karluk; Native Village of Larsen Bay; Native Village of Ouzinkie; Native Village of Port Lions; Natives of Kodiak, Inc.; Old Harbor Native Corporation; Ouzinkie Native Corporation; Shuyak, Inc.; Sun'aq Tribe of Kodiak; Uganik Natives, Inc.; Uyak, Inc.; and Village of Old Harbor that this notice has been published.

Dated: March 18, 2008.
Sherry Hutt,
Manager, National NAGPRA Program.

[FR Doc. E8-8300 Filed 4-16-08; 8:45 am]

BILLING CODE 4312-50-S